DEPARTMENT OF ENERGY

Federal Energy Regulatory Commission

Combined Notice of Filings # 1

September 15, 2010.

Take notice that the Commission received the following electric corporate filings:

Docket Numbers: EC10-96-000.

Applicants: Snowflake White Mountain Power, LLC, Snowflake Power, LLC.

Description: Joint Application for Authorization of Disposition and Acquisition of Existing Generation Facility and Related Jurisdictional Agreements, and Request for Shortened Comment Period and Expedited Consideration.

Filed Date: 09/14/2010.

Accession Number: 20100914-5181.

Comment Date: 5 p.m. Eastern Time on Tuesday, October 5, 2010.

Take notice that the Commission received the following exempt wholesale generator filings:

Docket Numbers: EG10-68-000.

Applicants: Minco Wind, LLC.

Description: Notice of Self-Certification of Exempt Wholesale Generator Status of Minco Wind, LLC.

Filed Date: 09/14/2010.

Accession Number: 20100914-5131.

Comment Date: 5 p.m. Eastern Time on Tuesday, October 5, 2010.

Take notice that the Commission received the following electric rate filings:

Docket Numbers: ER10-1102-001.

Applicants: Madison Paper Industries.

Description: Madison Paper Industries submits tariff filing per 35: Baseline Filing to be effective N/A.

Filed Date: 09/15/2010.

Accession Number: 20100915-5094.

Comment Date: 5 p.m. Eastern Time on Wednesday, October 6, 2010.

Docket Numbers: ER10-2642-000.

Applicants: Cedars Rapids Transmission Company Limit.

Description: Cedars Rapids Transmission Company Limited submits tariff filing per 35.12: CRT Baseline Filing to be effective 9/14/2010.

Filed Date: 09/14/2010.

Accession Number: 20100914-5158.

Comment Date: 5 p.m. Eastern Time on Tuesday, October 5, 2010.

Docket Numbers: ER10-2643-000.

Applicants: Southern California Edison Company.

Description: Southern California Edison Company submits a Letter Agreement with NextEra Energy Resources, LLC for Engineering Study, to be effective 9/8/2010.

Filed Date: 09/15/2010.

Accession Number: 20100915-5022.

Comment Date: 5 p.m. Eastern Time on Wednesday, October 6, 2010.

Docket Numbers: ER10-2644-000.

Applicants: Hardwood Energy LLC.

Description: Hardwood Energy LLC submits an application for authorization to make wholesale sales of energy and capacity at negotiated, market-based rates.

Filed Date: 09/14/2010.

Accession Number: 20100915-0200.

Comment Date: 5 p.m. Eastern Time on Tuesday, October 5, 2010.

Docket Numbers: ER10-2645-000.

Applicants: Baconton Power LLC.

Description: Baconton Power LLC submits tariff filing per 35.12: Baseline Market-Based Rates to be effective 9/15/2010.

Filed Date: 09/15/2010.

Accession Number: 20100915-5053.

Comment Date: 5 p.m. Eastern Time on Wednesday, October 6, 2010.

Docket Numbers: ER10-2646-000.

Applicants: APX, Inc.

Description: APX, Inc. submits tariff filing per 35.12: APX Baseline Tariff Filing to be effective 9/15/2010.

Filed Date: 09/15/2010.

Accession Number: 20100915-5054.

Comment Date: 5 p.m. Eastern Time on Wednesday, October 6, 2010.

Docket Numbers: ER10-2648-000.

Applicants: Deseret Generation & Transmission Co-opertive, Inc.

Description: Deseret Generation & Transmission Co-operative, Inc. submits its Baseline Tariff Filing, to be effective 9/15/2010.

Filed Date: 09/15/2010.

Accession Number: 20100915-5067.

Comment Date: 5 p.m. Eastern Time on Wednesday, October 6, 2010.

Docket Numbers: ER10-2649-000.

Applicants: Central Illinois Public Service Company.

Description: Central Illinois Public Service Company submits tariff filing per 35.13(a)(2)(iii): AIC MBR and Short-Term Protocol to be effective 12/31/1998.

Filed Date: 09/15/2010.

Accession Number: 20100915-5073.

Comment Date: 5 p.m. Eastern Time on Wednesday, October 6, 2010.

Docket Numbers: ER10-2650-000.

Applicants: ISO Trader, LLC.

Description: ISO Trader, LLC submits tariff filing per 35.12: Baseline Electric Market-Based Rates to be effective 9/15/2010.

Filed Date: 09/15/2010.

Accession Number: 20100915-5076.

Comment Date: 5 p.m. Eastern Time on Wednesday, October 6, 2010.

Docket Numbers: ER10-2651-000.

Applicants: Lockhart Power Company.

Description: Lockhart Power Company submits tariff filing per 35.12: Lockhart MBR Baseline Filing to be effective 8/31/2010.

Filed Date: 09/15/2010.

Accession Number: 20100915-5085.

Comment Date: 5 p.m. Eastern Time on Wednesday, October 6, 2010.

Docket Numbers: ER10-2652-000.

Applicants: Lockhart Power Company.

Description: Lockhart Power Company submits tariff filing per 35.12: Lockhart COSAC Baseline Filing to be effective 8/31/2010.

Filed Date: 09/15/2010.

Accession Number: 20100915-5089.

Comment Date: 5 p.m. Eastern Time on Wednesday, October 6, 2010.

Docket Numbers: ER10-2653-000.

Applicants: Snowflake Power, LLC.

Description: Snowflake Power, LLC submits tariff filing per 35.12: Snowflake Power, LLC MBR Tariff Application to be effective 9/15/2010.

Filed Date: 09/15/2010.

Accession Number: 20100915-5095.

Comment Date: 5 p.m. Eastern Time on Wednesday, October 6, 2010.

Docket Numbers: ER10-2654-000.

Applicants: Vitol Inc.

Description: Vitol Inc. submits tariff filing per 35.12: Baseline to be effective 9/15/2010.

Filed Date: 09/15/2010.

Accession Number: 20100915-5119.

Comment Date: 5 p.m. Eastern Time on Wednesday, October 6, 2010.

Docket Numbers: ER10-2655-000.

Applicants: Gateway Energy Services Corporation.

Description: Gateway Energy Services Corporation submits tariff filing per 35.12: Market-Based Rate Tariff in Compliance with Order No. 714 to be effective 9/15/2010.

Filed Date: 09/15/2010.

Accession Number: 20100915-5168.

Comment Date: 5 p.m. Eastern Time on Wednesday, October 6, 2010.

Docket Numbers: ER10-2656-000.

Applicants: Tucson Electric Power Company.

Description: Tucson Electric Power Company submits tariff filing per 35.12: Baseline Filing—Tucson Electric Power Company Open Access Transmission Tariff to be effective 9/16/2010.

Filed Date: 09/15/2010.

Accession Number: 20100915-5182.

Comment Date: 5 p.m. Eastern Time on Wednesday, October 6, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-23619 Filed 9-21-10; 8:45 am]

BILLING CODE 6717-01-P